ENVIRONMENTAL PROTECTION AGENCY

[EPA-HQ-OPP-2005-0123; FRL-8095-9]

Methyl Bromide; Tolerance Reassessment and Risk Management Decision for Methyl Bromide, and Reregistration Eligibility Decision for Methyl Bromide's Commodity Uses; Extension of Comment Period

AGENCY: Environmental Protection Agency (EPA).

ACTION: Extension of comment period.

SUMMARY: On August 9, 2006, EPA announced the availability of EPA's Tolerance Reassessment and Risk Management Decision (TRED) for Methyl Bromide, and Reregistration Eligibility Decision (RED) for Methyl Bromide's Commodity Uses, and opened a 60-day public comment period on the document. This document announces the extension of the comment period for an additional 45 days.

DATES: Comments, identified by docket identification (ID) number EPA-HQ-OPP-2005-0123 must be received on or before November 24, 2006.

ADDRESSES: Follow the detailed instructions as provided under ADDRESSES in the Federal Register document of August 9, 2006.

FOR FURTHER INFORMATION CONTACT: Steven Weiss, Special Review and Reregistration Division (7508P), Office of Pesticide Programs, Environmental Protection Agency, 1200 Pennsylvania Ave., NW., Washington, DC 20460-0001; telephone number: (703) 308-8293; fax number: (703) 308-8005; e-mail address: weiss.steven@epa.gov.

SUPPLEMENTARY INFORMATION:

I. General Information

A. Does this Action Apply to Me?

The Agency included in the earlier notice a list of those who may be potentially affected by this action. If you have questions regarding the applicability of this action to a particular entity, consult the person listed under the FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. How and to Whom Do I Submit Comments?

To submit comments, or access the official public docket, please follow the detailed instructions as provided in the ADDRESES Unit of the August 9, 2006 Federal Register document. If you have questions, consult the person listed under FOR FURTHER INFORMATION CONTACT.

II. What Action is EPA taking?

This document extends the public comment period established in the Federal Register issued on August 9, 2006 (71 FR 45546) (FRL-8083-1). In that document, EPA announced the availability of EPA's Tolerance Reassessment and Risk Management Decision (TRED) for Methyl Bromide, and Reregistration Eligibility Decision (RED) for Methyl Bromide's Commodity Uses, and opened a public comment period on the document. EPA is hereby extending the comment period, which was set to end on October 10, 2006 for an additional 45 days.

The reason for this extension is so the public can comment on the buffer zone look-up table document that the Agency has placed in the docket. This document contains buffer zone look up tables for treatment and aeration periods that were described in the August 9, 2006 decision document and that are based on information already available in the docket. The Agency believes that providing the buffer zone document and extending the comment period will ensure that stakeholders will have a better understanding of the impacts of the decision document and will be able to provide more informed comments for the Agency to consider.

In addition to providing the look-up tables in the docket, the Agency has identified two issues that were included in supporting documents but inadvertently omitted or not clearly articulated in the decision document. The first issue was the omission of rates for several uses in “Table 2, Summary of Labeling Changes for Methyl Bromide Fumigation.” An updated version of the table is included in the docket. The second issue was that the decision document states that all buffer zone distances modeled with PERFUM were based on limiting bystander exposure to 1 part per million (ppm) for an 8 hour time weighted average (TWA). Although not stated in the decision document, exposures of durations lasting more than 8 hours were based on limiting exposures to 0.33 ppm for a 24-hour TWA. The reason for having two different exposure limits is to match the most appropriate toxicity endpoint to the expected duration of exposure.

III. What is the Agency's Authority for Taking this Action?

Section 4(g)(2) of FIFRA as amended directs that, after submission of all data concerning a pesticide active ingredient, the Administrator shall determine whether pesticides containing such active ingredient are eligible for reregistration, before calling in product specific data on individual end-use products and either reregistering products or taking other “appropriate regulatory action.” Section 408(q) of the Federal Food, Drug, and Cosmetic Act (FFDCA), 21 U.S.C. 346a(q), requires EPA to review tolerances and exemptions for pesticide residues in effect as of August 2, 1996, to determine whether the tolerance or exemption meets the requirements of section 408(b)(2) or (c)(2) of FFDCA.

List of Subjects

Environmental protection, Pesticides and pests.

Dated: September 25, 2006.
Debra Edwards,
Director, Special Review and Reregistration Division, Office of Pesticide Programs.

[FR Doc. E6-16063 Filed 9-28-06; 8:45 am]

BILLING CODE 6560-50-S